DEPARTMENT OF COMMERCE

International Trade Administration

[A-588-804]

Antifriction Bearings (Other Than Tapered Roller Bearings) and Parts Thereof From Japan; Amended Final Results of Antidumping Duty Administrative Reviews

AGENCY: Import Administration, International Trade Administration, Department of Commerce.

ACTION: Notice of final court decision and amended final results of administrative reviews.

SUMMARY: The United States Court of International Trade and the United States Court of Appeals for the Federal Circuit have affirmed the Department of Commerce's final remand results affecting final assessment rates for the administrative reviews of the antidumping duty orders on antifriction bearings (other than tapered roller bearings) and parts thereof from Japan with regard to NTN Corporation, Koyo Seiko Co., Ltd., and Honda Motor Company Limited. The classes or kinds of merchandise covered by these reviews are ball bearings and parts thereof, cylindrical roller bearings and parts thereof, and spherical plain bearings and parts thereof. The period of review is May 1, 1992, through April 30, 1993. As there is now a final and conclusive court decision in this action, we are amending our final results of reviews, as appropriate, and we will subsequently instruct the U.S. Customs Service to liquidate entries subject to these reviews.

EFFECTIVE DATE: December 28, 2000.

FOR FURTHER INFORMATION CONTACT: Thomas Schauer or Richard Rimlinger, Import Administration, International Trade Administration, U.S. Department of Commerce, 14th Street and Constitution Avenue, NW., Washington, DC 20230; telephone (202) 482-4733 and (202) 482-4477.

Applicable Statute

Unless otherwise indicated, all citations to the Tariff Act of 1930, as amended (the Tariff Act), are references to the provisions in effect as of December 31, 1994. In addition, unless otherwise indicated, all citations to the Department of Commerce's (the Department's) regulations are to 19 CFR Part 353 (1995).

SUPPLEMENTARY INFORMATION:

Background

On February 28, 1995, the Department published its final results of administrative reviews of the antidumping duty orders on antifriction bearings (other than tapered roller bearings) and parts thereof from France, Germany, Italy, Japan, Singapore, Sweden, and the United Kingdom, covering the period May 1, 1992, through April 30, 1993 (60 FR 10900) (AFBs 4). The classes or kinds of merchandise covered by these reviews are ball bearings and parts thereof (BBs), cylindrical roller bearings and parts thereof (CRBs), and spherical plain bearings and parts thereof (SPBs). Subsequently, one domestic producer (The Torrington Company), NSK Ltd., NTN Corporation (NTN), and Koyo Seiko Co., Ltd. (Koyo), filed lawsuits with the U.S. Court of International Trade (CIT) challenging the final results. These lawsuits were consolidated and litigated at the CIT and the United States Court of Appeals for the Federal Circuit (CAFC). The CIT and CAFC affirmed the Department's final remand results for AFBs 4 with respect to all companies except NTN, Koyo, and Honda Motor Company Limited (Honda) in the proceedings concerning antifriction bearings from Japan. On September 13, 1999, the Department published its amended final results of administrative reviews of the antidumping duty orders on antifriction bearings (other than tapered roller bearings) and parts thereof, from France, Germany, Italy, Japan, Singapore, Sweden, and the United Kingdom, covering the period May 1, 1992, through April 30, 1993, with respect to all companies except NTN, Koyo, and Honda (64 FR 49442).

The CIT and CAFC have affirmed the Department's original determination in AFBs 4 with respect to Honda. Therefore, since neither court remanded the determination with respect to Honda to the Department, the Department has not changed its final results of review with respect to Honda and no amendment to AFBs 4 is necessary with respect to this company.

However, the Department received remand instructions during the litigation pertaining to NTN and Koyo. The CIT and CAFC issued a number of orders and opinions of which the following have resulted in changes to the antidumping margins we had calculated for NTN and Koyo in AFBs 4:

NSK Ltd., et al. v. United States, Slip Op. 97-74 (June 17, 1997);

NSK Ltd., et al. v. United States, Slip Op. 98-11 (February 4, 1998);

NSK Ltd., et al. v. United States, Slip Op. 99-135 (December 17, 1999).

In the context of the above-cited litigation, the CIT and CAFC ordered the Department to make methodological changes and to recalculate the antidumping margins for NTN and Koyo. Specifically, the CIT ordered the Department, inter alia, to make the following changes on a company-specific basis:

NTN—(1) apply a tax-neutral methodology in computing the value-added tax adjustment, (2) deny the adjustment to foreign market value (FMV) for home-market discounts, (3) deny the adjustments to FMV for billing adjustments that were not made solely to in-scope merchandise, (4) exclude sample sales from the home-market database for which NTN received no consideration, (5) allow the adjustment to U.S. indirect selling expenses for interest expense incurred in financing antidumping duty cash deposits, (6) recalculate the cost of production and constructed value without resort to best information available, and (7) correct a clerical error; Koyo—(1) apply a tax-neutral methodology in computing the value-added tax adjustment, (2) reopen the record to allow Koyo to submit documentation showing the nature of the expenses it characterized as non-operating expenses and subsequently exclude certain items from general expenses for purposes of calculating cost of production and constructed value, (3) re-examine the acceptance of the allocation of air-freight expenses, (4) explain further the basis for accepting Koyo's efficiency variance without adjustment, and (5) correct a clerical error.

The CIT and CAFC have affirmed the Department's final remand results affecting final assessment rates for these reviews of NTN and Koyo. As there are now final and conclusive court decisions in these actions, we are amending our final results of review in these matters and we will subsequently instruct the U.S. Customs Service to liquidate entries subject to these reviews.

Amendment to Final Results

Pursuant to section 516A(e) of the Tariff Act, we are now amending the final results of administrative reviews of the antidumping duty orders on antifriction bearings (other than tapered roller bearings) and parts thereof from Japan and the period May 1, 1992, through April 30, 1993, with respect to NTN and Koyo. The revised weighted-average margins are as follows:

Company | BBs | CRBs | SPBs
Koyo Seiko | 14.90 | 6.53 | (¹)
NTN | 9.25 | 7.99 | 0.43
(¹) No shipments or sales subject to this review.

Accordingly, the Department will determine and the U.S. Customs Service will assess appropriate antidumping duties on entries of the subject merchandise made by firms covered by these reviews. Individual differences between United States price and FMV may vary from the percentages listed above. The Department has already issued appraisement instructions to the Customs Service for certain companies whose margins have not changed from those announced in AFBs 4 and the September 13, 1999, amendment. The Department will issue appraisement instructions to the U.S. Customs Service for NTN, Koyo, and Honda after publication of these amended final results of reviews.

This notice is published pursuant to section 751(a) of the Tariff Act.
Dated: December 20, 2000.
Troy H. Cribb,
Assistant Secretary for Import Administration.

[FR Doc. 00-33203 Filed 12-27-00; 8:45 am]

BILLING CODE 3510-DS-P